DEPARTMENT OF ENERGY

Federal Energy Regulatory Commission

[Docket No. RP07-339-000]

Texas Gas Transmission, LLC; Notice Concerning Omission of Reply Comments

May 23, 2007.

On May 18, 2007, Texas Gas Transmission, LLC (Texas Gas) filed a motion to omit the filing of reply comments following the technical conference held on April 17, 2007, in this proceeding, and to shorten the period for filing answers to its motion (May 18 Motion). In its May 18 Motion, Texas Gas stated it contacted each of the parties who filed initial comments, as well as the other parties who either commented on Texas Gas's initial proposal or who participated in the technical conference and subsequent conference call. Texas Gas was authorized to state that none of these parties oppose omitting the reply comments stage of this proceeding, or the Commission approving Texas Gas's proposed tariff sheets, as they were amended and clarified following the technical conference. On May 18, 2007, the Commission issued a notice shortening the period for filing answers to Texas Gas's filing. No comments were filed in response to the May 18 Motion.

In light of the foregoing, notice is hereby given that as requested by Texas Gas in its May 18 Motion, reply comments need not be filed to the initial comments following the technical conference.

Kimberly D. Bose,
Secretary.

[FR Doc. E7-10424 Filed 5-30-07; 8:45 am]

BILLING CODE 6717-01-P